DEPARTMENT OF DEFENSE

GENERAL SERVICES ADMINISTRATION

NATIONAL AERONAUTICS AND SPACE ADMINISTRATION

48 CFR Part 53

Federal Acquisition Regulation; Government Property Disposal; Forms

CFR Correction

In Title 48 of the Code of Federal Regulations, Chapter 1 (Parts 52 to 99), revised as of October 1, 2010, on page 527, in § 53.301-1423, the second Inventory Verification Survey form and the source note following it are removed.

[FR Doc. 2011-7810 Filed 3-31-11; 8:45 am]

BILLING CODE 1505-01-D